DEPARTMENT OF HOMELAND SECURITY

Coast Guard

33 CFR Part 117

[CGD05-05-041]

Drawbridge Operation Regulations; Atlantic Intracoastal Waterway, South Branch of the Elizabeth River, Chesapeake, VA

AGENCY: Coast Guard, DHS.

ACTION: Notice of public meeting.

SUMMARY: The Coast Guard will hold a public meeting to provide a forum for citizens to provide oral comments relating to the drawbridge operation regulations for the Dominion Boulevard (US 17) Bridge; Atlantic Intracoastal Waterway, South Branch of the Elizabeth River, Chesapeake, VA. The meeting will be open to the public.

DATES: This public meeting will be held from 3 p.m. to 8 p.m. on March 1, 2006, at the Chesapeake Central Library in Chesapeake, VA. The meeting may close early if all business is finished. Written material and requests to make oral presentations should reach the Coast Guard on or before February 28, 2006.

ADDRESSES: The Coast Guard public meeting will be held at the Chesapeake Central Library, 298 Cedar Road, Chesapeake, VA 23322-5598. Send written material and requests to make oral presentations to Commander (obr), Fifth Coast Guard District, Federal Building, 1st Floor, 431 Crawford Street, Portsmouth, VA 23704-5004. You can also send your comments via fax at (757) 398-6334 or by e-mail at waverly.w.gregory@uscg.mil.

FOR FURTHER INFORMATION CONTACT: Waverly W. Gregory, Jr., Bridge Administrator, Fifth Coast Guard District, at (757) 398-6222.

SUPPLEMENTARY INFORMATION: This notice of meeting is in response to the Notice of Proposed Rulemaking published in the Federal Register on May 10, 2005, (70 FR 24492) and the Interim Rule with request for comment published in the Federal Register on August 19, 2005, (70 FR 48637). The purpose of this public meeting is to provide an opportunity for citizens to provide oral or written comments regarding the changes to the regulations that govern the operation of the Dominion Boulevard (US 17) Bridge across the Southern Branch of the Elizabeth River, at Atlantic Intracoastal Waterway mile 8.8, at Chesapeake, Virginia.

Agenda of Meeting

The agenda includes the following:

(1) Introduction of panel members.

(2) Overview of meeting format.

(3) Background on the proposed and interim rulemakings.

(4) Statements from citizens. Statements may be delivered in written form at the public meeting and made part of the docket or delivered orally not to exceed 5 minutes.

Procedural

The meeting is open to the public. Please note that the meeting may close early if all business is finished. Members of the public may make oral presentations during the meeting. If you would like to make an oral presentation at the meeting, please notify the meeting coordinator at the address listed under ADDRESSES by February 28, 2006.

Information on Services for Individuals With Disabilities

For information on facilities or services for individuals with disabilities or to request special assistance at the meeting, contact the meeting coordinator as soon as possible.

Dated: January 5, 2006.
Larry L. Hereth,
Rear Admiral, U.S. Coast Guard, Commander, Fifth Coast Guard District.

[FR Doc. E6-338 Filed 1-12-06; 8:45 am]

BILLING CODE 4910-15-P